DEPARTMENT OF THE INTERIOR

Bureau of Land Management

[NV-030-1920-00-4032]

Environmental Statements; Notice of Intent: Walker River Basin, NV; Water and/or Water Rights From Willing Sellers

Amendment to the February 1, 2000 Notice of Intent to Prepare an Environmental Impact Statement for obtaining water and/or water rights from willing sellers in the Walker River Basin for the purposes of protecting the Walker Lake ecosystem from degradation resulting from increasing total dissolved solids (TDS) in the lake; possible use in a settlement of the United States' water rights claims in the Walker River Basin should a settlement be negotiated; and to assist in recovery of the threatened Lahontan cutthroat trout in the Walker River Basin.

AGENCY: Bureau of Land Management, Carson City Field Office, 5665 Morgan Mill Road, Carson City, NV 89701.

ACTION: Amendment to the February 1, 2000 notice of intent to prepare an environmental impact statement for obtaining water and/or water rights from willing sellers in the Walker River Basin, notice of scoping period. The initial public scoping period will be extended to July 31, 2000. The public review and comment period on the draft EIS will be increased to 75 days.

SUMMARY: The Bureau of Land Management (BLM), Carson City Field Office, in cooperation with the Bureau of Indian Affairs (BIA), Phoenix Area Office, The Bureau of Reclamation (BOR), Lahontan Basin Area Office and the U.S. Fish and Wildlife Service (FWS), Nevada Fish and Wildlife Office, will extend the initial public scoping period until July 31, 2000 and increase the time allowed for public review and comment on the draft EIS to 75 days. This extended initial public scoping period is necessary for the following reasons: (1) To allow potential cooperating agencies to make decisions in regards to their status in this project and participate early in the NEPA process, (2) the complex issues, to be investigated in this EIS, require additional time for consideration and refinement, and (3) additional time is needed to develop alternatives for consideration in the EIS. The increased time allowed for public review and comment on the draft EIS is necessary to allow local governments adequate time for review of the document and consideration of these matters at regularly scheduled meeting of the County Board of Commissioners.

EFFECTIVE DATES: The initial public scoping period is extended until July 31, 2000.

A Draft EIS (DEIS) is expected to be completed by November 24, 2000 and made available for public review and comment. The public review and comment period on the DEIS will be 75 days from the date the Notice of Availability (NOA) is published in the Federal Register which is anticipated to occur on November 24, 2000.

FOR FURTHER INFORMATION CONTACT: For additional information, write to the Field Manager of the Carson City Field Office at the address listed in the agency section of this notice, call or email Walt Devaurs (BLM Team Leader) at (775) 885-6150, wdevaurs@nv.blm.gov or Mike McQueen (BLM NEPA Coordinator) at (775) 885-6120, mmcqueen@nv.blm.gov.

SUPPLEMENTARY INFORMATION: The proposed EIS schedule is as follows:

Begin Initial Public Comment Period | Feb. 1, 2000.
End Initial Public Scoping Period | July 31, 2000.
Issue Draft EIS (75 day public review) | Nov. 24, 2000.
End Draft EIS Public Review | Feb. 7, 2000.
Issue Final EIS (30 day public review) | June 1, 2001.
Issue Record of Decision | Aug. 5, 2001.
End 30-day Appeal Period/Implementation | Sept. 5, 2001.

Dated: April 14, 2000.
Mike McQueen,
Field Office Manager.

[FR Doc. 00-9892 Filed 4-19-00; 8:45 am]

BILLING CODE 4310-HC-P